DEPARTMENT OF AGRICULTURE

Office of Partnerships and Public Engagement (OPPE); Advisory Committee on Minority Farmers and Ranchers Request for Nominations

AGENCY: Office of Advocacy and Outreach, USDA.

ACTION: Solicitation for applications.

SUMMARY: We are giving notice that U.S. Department of Agriculture (USDA) is soliciting nominations and applications to serve on the Advisory Committee on Minority Farmers and Ranchers (the “Committee”). Interested persons must submit applications and nomination packages which can be downloaded at the link below: https://www.ocio.usda.gov/document/ad-755.

DATES: Consideration will be given to nominations received on or before November 1, 2018.

FOR FURTHER INFORMATION CONTACT: Mrs. Kenya Nicholas, Designated Federal Official, USDA OPPE, 1400 Independence Avenue SW, Room 520-A, Washington, DC 20250-0601; Telephone (202) 720-6350; Fax (202) 720-7704; Email: kenya.nicholas@osec.usda.gov.

ADDRESSES: Nomination packages may be sent by postal mail or commercial delivery to: Mrs. Kenya Nicholas, Designated Federal Official, USDA OPPE, 1400 Independence Avenue SW, Room 520-A, Washington, DC 20250-0601. Nomination packages may also be faxed to (202) 720-7704.

SUPPLEMENTARY INFORMATION: On March 7, 2017, we published in the Federal Register (FR DOC# 2017-11216, Page 25224) a Notice of Solicitation for Nominations. Applications were required to be received on or before June 16, 2017. Previous applicants do not need to reapply.

We are soliciting nominations from socially disadvantaged farming and ranching producers; civil rights professionals; private nonprofit organizations that support socially disadvantaged producers; and higher education institutions that work with socially disadvantaged producers. The membership term shall not exceed 2 years from the date of appointment. The Secretary may also appoint others as deemed necessary and appropriate to fulfill the Committee charter. An organization may nominate individuals from within or outside its membership; alternatively, an individual may nominate herself or himself. Nomination packages should include a nomination form along with a cover letter or resume that documents the nominee's background and experience.

The Secretary will fill 15 vacancies from among those organizations and individuals solicited in order to obtain the broadest possible representation on the Committee. Equal opportunity practices, in line with the USDA policies, will be followed in all appointments to the Committee. To ensure that the recommendations of the Committee have taken into account the needs of the diverse groups served by the Department, membership should include, to the extent practicable, individuals with demonstrated ability to represent minorities, women, and persons with disabilities.

Signed in Washington, DC, this 13th day of September, 2018.
Christian Obineme,
Deputy Director, Office of Partnerships and Public Engagement.

[FR Doc. 2018-22149 Filed 10-16-18; 8:45 am]

BILLING CODE 3410-P